DEPARTMENT OF ENERGY

Federal Energy Regulatory Commission

[Project No. 4113-066]

Oswego Hydro Partners, LP; Notice of Intent to File License Application, Filing of Pre-Application Document, Approving Use of the Traditional Licensing Process

a. Type of Filing: Notice of Intent to File License Application and Request to Use the Traditional Licensing Process.

b. Project No.: 4113-066.

c. Date Filed: February 26, 2021

d. Submitted By: Oswego Hydro Partners, LP (Oswego Hydro)

e. Name of Project: Phoenix Hydroelectric Project

f. Location: On the Oswego River in the counties of Onondaga and Oswego, New York. The project does not occupy any federal land.

g. Filed Pursuant to: 18 CFR 5.3 of the Commission's regulations

h. Potential Applicant Contact: Jody J. Smet, AICP, Vice President Regulatory Affairs, Eagle Creek Renewable Energy, at (920) 293-4628, or email at Jody.Smet@eaglecreekre.com; or Matthew J. Nini, Licensing and Compliance Manager, Eagle Creek Renewable Energy, at (973) 998-8171, or email at Matthew.Nini@eaglecreekre.com.

i. FERC Contact: Samantha Pollak at (202) 502-6419; or email at samantha.pollak@ferc.gov.

j. Oswego Hydro filed its request to use the Traditional Licensing Process on February 26, 2021. Oswego Hydro provided public notice of its request on February 18, 2021. In a letter dated April 26, 2021, the Director of the Division of Hydropower Licensing approved the applicant's request to use the Traditional Licensing Process.

k. With this notice, we are initiating informal consultation with the U.S. Fish and Wildlife Service and National Marines Fisheries Service under section 7 of the Endangered Species Act and the joint agency regulations thereunder at 50 CFR, Part 402. We are also initiating consultation with the New York State Historic Preservation Officer, as required by section 106, National Historic Preservation Act, and the implementing regulations of the Advisory Council on Historic Preservation at 36 CFR 800.2.

l. With this notice, we are designating Oswego Hydro as the Commission's non-federal representative for carrying out informal consultation pursuant to section 7 of the Endangered Species Act and section 305(b) of the Magnuson-Stevens Fishery Conservation and Management Act; and consultation pursuant to section 106 of the National Historic Preservation Act.

m. The applicant filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov, (866) 208 3676 (toll free), or (202) 502-8659 (TTY).

o. The licensee states its unequivocal intent to submit an application for a new license for Project No. 4113. Pursuant to 18 CFR 16.8, 16.9, and 16.10 each application for a new license and any competing license applications must be filed with the Commission at least 24 months prior to the expiration of the existing license. All applications for license for this project must be filed by February 28, 2024.

p. Register online at http://www.ferc.gov/docs-filing/esubscription.asp to be notified via email of new filing and issuances related to this or other pending projects. For assistance, contact FERC Online Support.

Dated: April 26, 2021.
Kimberly D. Bose,
Secretary.

[FR Doc. 2021-09055 Filed 4-29-21; 8:45 am]

BILLING CODE 6717-01-P